DEPARTMENT OF HEALTH AND HUMAN SERVICES

Meeting of the Advisory Committee on Blood and Tissue Safety and Availability

AGENCY: Office of the Assistant Secretary for Health, Office of the Secretary, Department of Health and Human Services.

ACTION: Notice.

SUMMARY: The U.S. Department of Health and Human Services is hereby giving notice that the Advisory Committee on Blood and Tissue Safety and Availability (ACBTSA) will hold a virtual meeting. The meeting will be open to the public. The committee will discuss recommendations to improve the supply chain and data infrastructure that supports the blood industry, especially during public health emergencies. To facilitate this discussion, key stakeholders from across the nation and around the world will present on hemovigilance, preparedness, inventory management systems and other relevant issues.

DATES: The meeting will take place virtually on Tuesday, August 17, 2021 from approximately 10:00 a.m.-6:00 p.m. and Wednesday, August 18, 2021 from approximately 10:00 a.m.-6:00 p.m. Eastern Time (ET). Meeting times are tentative and subject to change. The confirmed times and agenda items for the meeting will be posted on the ACBTSA web page at https://www.hhs.gov/oidp/advisory-committee/blood-tissue-safety-availability/meetings/2021-08-17/index.html when this information becomes available.

FOR FURTHER INFORMATION CONTACT: James Berger, Designated Federal Officer for the ACBTSA; Office of Infectious Disease and HIV/AIDS Policy, Office of the Assistant Secretary for Health, Department of Health and Human Services, Mary E. Switzer Building, 330 C Street SW, Suite L600, Washington, DC 20024. Email: ACBTSA@hhs.gov.

SUPPLEMENTARY INFORMATION: ACBTSA is a discretionary Federal advisory committee. ACBTSA The Committee is governed by the provisions of the Federal Advisory Committee Act (FACA), Public Law 92-463, as amended (5 U.S.C. App), which sets forth standards for the formation and use of advisory committees. On the day of the meeting, please go to https://www.hhs.gov/live/index.html to view the meeting. The public will have an opportunity to present their views to the ACBTSA orally during the meeting's public comment session or by submitting a written public comment. Comments should be pertinent to the meeting discussion. Persons who wish to provide verbal or written public comment should review instructions at https://www.hhs.gov/oidp/advisory-committee/blood-tissue-safety-availability/meetings/2021-08-17/index.html and respond by midnight August 9, 2021, ET. Verbal comments will be limited to three minutes each to accommodate as many speakers as possible. Written public comments will be accessible to the public on the ACBTSA web page prior to the meeting.

ACBTSA functions to provide advice to the Secretary through the Assistant Secretary for Health on a range of policy issues to include: (1) Identification of public health issues through surveillance of blood and tissue safety issues with national survey and data tools; (2) identification of public health issues that affect availability of blood, blood products, and tissues; (3) broad public health, ethical, and legal issues related to the safety of blood, blood products, and tissues; (4) the impact of various economic factors (e.g., product cost and supply) on safety and availability of blood, blood products, and tissues; (5) risk communications related to blood transfusion and tissue transplantation; and (6) identification of infectious disease transmission issues for blood, organs, blood stem cells and tissues. The Committee has met regularly since its establishment in 1997.

Dated: July 23, 2021.
James J. Berger,
Designated Federal Officer, Advisory Committee on Blood and Tissue Safety and Availability, Office of Infectious Disease and HIV/AIDS Policy.

[FR Doc. 2021-16120 Filed 7-28-21; 8:45 am]

BILLING CODE 4150-28-P